ENVIRONMENTAL PROTECTION AGENCY

40 CFR Parts 60 and 63

[EPA-HQ-OAR-2002-0058; EPA-HQ-OAR-2006-0790; EPA-HQ-OAR-2003-0119; FRL-9272-7]

RIN 2060-AQ25; RIN 2060-AM44; RIN 2060-AO12

National Emission Standards for Hazardous Air Pollutants; Notice of Reconsideration

AGENCY: Environmental Protection Agency (EPA).

ACTION: Notice of reconsideration of final rules.

SUMMARY: EPA is initiating a reconsideration process with respect to certain aspects of the national emission standards for hazardous air pollutants (NESHAP) for new and existing sources for Major Source Industrial, Commercial, and Institutional Boilers and Process Heaters; the NESHAP for new and existing sources for Area Source Industrial, Commercial, and Institutional Boilers; and standards of performance for new Commercial and Industrial Solid Waste Incineration Units and emission guidelines for existing Commercial and Industrial Solid Waste Incineration Units published as final rules elsewhere in this issue of this Federal Register.

FOR FURTHER INFORMATION CONTACT: National Emission Standards for Hazardous Air Pollutants for Major Sources: Industrial, Commercial, and Institutional Boilers and Process Heaters: Mr. Brian Shrager, Energy Strategies Group, Sector Policies and Programs Division, (D243-01), Office of Air Quality Planning and Standards, U.S. Environmental Protection Agency, Research Triangle Park, North Carolina 27711; Telephone number: (919) 541-7689; Fax number (919) 541-5450; E-mail address: shrager.brian@epa.gov.

National Emission Standards for Hazardous Air Pollutants for Area Sources: Industrial, Commercial, and Institutional Boilers: Mr. Jim Eddinger, Energy Strategies Group, Sector Policies and Programs Division, (D243-01), Office of Air Quality Planning and Standards, U.S. Environmental Protection Agency, Research Triangle Park, North Carolina 27711; telephone number: (919) 541-5426; Fax number (919) 541-5450; e-mail address: eddinger.jim@epa.gov.

Standards of Performance for New Stationary Sources and Emission Guidelines for Existing Sources: Commercial and Industrial Solid Waste Incineration (CISWI) Units: Ms. Toni Jones, Natural Resource and Commerce Group, Sector Policies and Programs Division (E143-03), Environmental Protection Agency, Research Triangle Park, North Carolina 27711; telephone number: (919) 541-0316; fax number: (919) 541-3470; e-mail address: jones.toni@epa.gov.

SUPPLEMENTARY INFORMATION:

I. General Information

A. Reconsideration of the Emissions Standards for Major Boilers and Process Heaters, Area Source Boilers, and Commercial and Industrial Solid Waste Incinerators

In separate final rules documents published elsewhere in today's Federal Register, EPA is issuing emissions standards for new and existing sources in the following source categories: Major source boilers and process heaters, area source boilers, and commercial and industrial solid waste incinerators. In this notice, we are convening a proceeding for reconsideration of certain portions of these emissions standards. The Agency is in the process of developing a proposed reconsideration notice that identifies the specific elements of the rules for which we believe further public comment is appropriate and any provisions that we propose to modify after more fully evaluating the data and comments already received. At that time, we may also seek public comment on other aspects of the portions of the rules we decide to reconsider in addition to other provisions in these rules. We will also evaluate any petitions submitted to the Agency by members of the public requesting that the Agency reconsider any aspects of these rules. We intend to consider for inclusion in any forthcoming proposed reconsideration notice all additional issues for which we determine that reconsideration is appropriate.

We recognize that certain issues of central relevance to these rules arose after the period for public comment or may have been impracticable to comment upon. Therefore, we believe that reconsideration is appropriate under section 307(d)(7)(B) of the Clean Air Act. While we have taken final action on the rules identified above, and believe that the final rules reflect reasonable approaches consistent with the requirements of the Clean Air Act, some of the issues identified in the comments raise difficult technical issues that we believe may benefit from additional public involvement.

Therefore, we are initiating reconsideration of a number of issues in the major and area sources boilers rules, and the commercial and industrial solid waste incineration rule. The following issues concern provisions in the final rules that are appropriate and consistent with the requirements of the Act, but for which we believe reconsideration and additional opportunity for public review and comment should be obtained:

• Revisions to the proposed subcategories in the major source boilers rule.

• Establishment of a fuel specification in the major source boilers rule through which gas-fired boilers that use a fuel other than natural gas may be considered Gas 1 units.

• Establishing work practice standards for limited use major source boilers.

• Establishment of standards for biomass and oil-fired area source boilers based on generally available control technology.

• Revision of the proposed subcategory for energy recovery units for CISWI units.

• Establishment of limitations on fuel switching provisions for CISWI units.

• Revision to the proposed definition of CISWI to exclude cyclonic burn barrels.

• Providing an affirmative defense for malfunction events for major and area source boilers and for CISWI units.

The following additional issues concern actions taken in the final rules for which we believe reconsideration under section 307(d) and, potentially, further revisions may be warranted because they involve issues of central relevance that arose after the period for public comment or may have been impracticable to comment upon:

• Revisions to the proposed monitoring requirements for carbon monoxide for major source boilers and for CISWI units.

• Revisions to the proposed dioxin emission limit and testing requirement for major source boilers.

• Establishing a full-load stack test requirement for carbon monoxide coupled with continuous oxygen monitoring for major source boilers and CISWI units.

• Establishing a definition of “homogenous waste” in the CISWI rule.

• Setting PM standards under generally available control technology for oil-fired area source boilers.

• Certain findings regarding the applicability of Title V permitting requirements for area source boilers.

Additional information concerning issues and concerns presented by commenters can be found in the dockets accompanying each of the rules under reconsideration in today's notice.

List of Subjects

40 CFR Part 60

Environmental protection, Air pollution control, Hazardous substances, Reporting and recordkeeping requirements.

40 CFR Part 63

Environmental protection, Air pollution control, Hazardous substances, Reporting and recordkeeping requirements.

Dated: February 21, 2011.
Lisa P. Jackson,
Administrator.

[FR Doc. 2011-4490 Filed 3-18-11; 8:45 am]

BILLING CODE 6560-50-P